DEPARTMENT OF COMMERCE

Foreign-Trade Zones Board

[B-52-2020]

Foreign-Trade Zone 38; Application for Production Authority; Teijin Carbon Fibers, Inc.; (Polyacrylonitrile-Based Carbon Fiber); Extension of Comment Period on Submission Containing New Evidence

The comment period on a submission containing new evidence pertaining to the application, as amended, submitted on behalf of Teijin Carbon Fibers, Inc. requesting production authority within FTZ 38, is being extended to April 30, 2023, to allow interested parties additional time in which to comment. Rebuttal comments may be submitted during the subsequent 15-day period, until May 15, 2023. Submissions shall be addressed to the Board's Executive Secretary and sent to: ftz@trade.gov.

For further information, contact Diane Finver at Diane.Finver@trade.gov.

Dated: February 23, 2023.
Elizabeth Whiteman,
Acting Executive Secretary.

[FR Doc. 2023-04165 Filed 2-28-23; 8:45 am]

BILLING CODE 3510-DS-P